DEPARTMENT OF HEALTH AND HUMAN SERVICES

Health Resources and Services Administration

Training and Technical Assistance Program Announcement; American Indian/Alaska Native Technical Assistance Center

AGENCY: Health Resources and Services Administration, HHS.

ACTION: Notice of availability of funds.

SUMMARY: The Health Resources and Services Administration (HRSA), HIV/AIDS Bureau (HAB) announces that applications will be accepted for fiscal year (FY) 2002 for the award of a cooperative agreement to support an American Indian/Alaska Native Technical Assistance Center (AIANTAC). The purpose of this cooperative agreement is to provide funding for the operation of a technical assistance center to provide competitive proposal development and implementation services to American Indian/Alaska Natives (AI/AN) in Urban and Tribal programs and in the AI/AN communities to increase their involvement in the competitive proposal process. This center will provide professional staff who will assist participants in the development, preparation and finalization of written competitive proposals for submission. This one-on-one technical assistance will assist in the linkages among the AI/AN Urban and Tribal health care programs, which will increase their knowledge about HIV/AIDS prevention and treatment, increase their access to care and assist in eliminating health disparities in the AI/AN communities.

Available Funding: It is estimated that up to $700,000 will be available to support a single recipient. Actual funding levels will depend on the availability of funds. The entire project period will be 2 years. Continuation of awards will be made on the basis of satisfactory progress and the availability of funds.

Eligible Applicants: Eligible applicants are public and nonprofit private entities and schools and academic health sciences centers. Tribal/Native Alaskan organizations and faith-based and community-based organizations are eligible to apply. The applicant must demonstrate significant experience working with the AI/AN communities.

Authorizing Legislation: The authority of this cooperative agreement is Section 2692 of the Public Health Service Act.

Where To Request and Send an Application

To obtain an application kit: Call the HRSA Grants Application Center at 877-477-2123 and request the OMB Catalogue of Federal Domestic Assistance number is 93.145.

To submit the completed kit: Send the original and 2 copies of your grant application to: HRSA Grants Application Center, Attention: Grants Management Officer, 901 Russell Avenue, Suite 450, Gaithersburg, MD 20879.

Application Dates: The deadline for receipt of applications is close of business September 6, 2002. Applications shall be considered as meeting the deadline if they are either (1) received on or before the due date or (2) postmarked on or before the deadline date.

Applicants must request a legibly dated U.S. Postal Service postmark or obtain a legibly dated receipt from a commercial carrier or the U.S. Postal Service. Private metered postmarks will not be accepted as proof of timely mailing. Grant applications postmarked after the deadline date and/or not received in time for the Objective Review Committee will be returned to the applicant.

FOR ADDITIONAL INFORMATION: Additional information may be obtained from Juanita Koziol, MS, NP, CS, RN., Senior Public Health Analyst, HAB, 5600 Fishers Lane, Parklawn Building, Room 7-47, Rockville, MD 20857, Telephone (301) 443-6068, FAX: (301) 443-6709, e-mail: jkoziol@hrsa.gov

SUPPLEMENTARY INFORMATION: The Secretary shall give preference to qualified projects which will—

(A) Train, or result in the training of, health professionals who will provide treatment for minority individuals with HIV disease and other individuals who are at high risk of contracting such disease; and

(B) Train, or result in the training of, minority health professional and minority allied health professionals to provide treatment for individuals with such disease.

As an active partner in this cooperative agreement, HRSA will have significant involvement with the applicant regarding training plans, program plans and other issues which may have major implications for any activities undertaken by the applicant under the cooperative agreement. HRSA will provide consultation and technical assistance in planning, operating, and evaluating activities for the AIANTAC.

Dated: July 12, 2002.
Elizabeth M. Duke,
Administrator.

[FR Doc. 02-19907 Filed 8-6-02; 8:45 am]

BILLING CODE 4165-15-P